NUCLEAR REGULATORY COMMISSION

[NRC-2012-0260]

Biweekly Notice; Applications and Amendments to Facility Operating Licenses and Combined Licenses Involving No Significant Hazards Considerations

Background

Pursuant to Section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from October 4, 2012, to October 17, 2012. The last biweekly notice was published on October 16, 2012 (77 FR 63343).

ADDRESSES: You may access information and comment submissions related to this document, which the NRC possesses and are publicly available, by searching on http://www.regulations.gov under Docket ID 2012-0260. You may submit comments by any of the following methods:

• Federal Rulemaking Web site: Go to http://www.regulations.gov and search for Docket ID 2012-0260. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

SUPPLEMENTARY INFORMATION:

I. Accessing Information and Submitting Comments

A. Accessing Information

Please refer to Docket ID 2012-0260 when contacting the NRC about the availability of information regarding this document. You may access information related to this document, which the NRC possesses and are publicly available, by any of the following methods:

• Federal Rulemaking Web site: Go to http://www.regulations.gov and search for Docket ID 2012-0260.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID 2012-0260 in the subject line of your comment submission, in order to ensure that the NRC is able to make your comment submission available to the public in this docket.

The NRC cautions you not to include identifying or contact information that you do not want to be publicly disclosed in your comment submission. The NRC will post all comment submissions at http://www.regulations.gov as well as entering the comment submissions into ADAMS. The NRC does not routinely edit comment submissions to remove identifying or contact information.

If you are requesting or aggregating comments from other persons for submission to the NRC, then you should inform those persons not to include identifying or contact information that you do not want to be publicly disclosed in their comment submission. Your request should state that the NRC does not routinely edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in section 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Rules of Practice for Domestic Licensing Proceedings” in 10 CFR Part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139; August 28, 2007). The E-Filing process requires participants to submit and serve all adjudicatory documents over the Internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the following three factors in 10 CFR 2.309(c)(1): (i) The information upon which the filing is based was not previously available; (ii) the information upon which the filing is based is materially different from information previously available; and (iii) the filing has been submitted in a timely fashion based on the availability of the subsequent information.

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Exelon Generation Company, LLC, and PSEG Nuclear LLC, Docket Nos. 50-277 and 50-278, Peach Bottom Atomic Power Station, Units 2 and 3, York and Lancaster Counties, Pennsylvania

Date of application for amendments: August 29, 2012.

Description of amendment request: The proposed amendment would add Technical Specification (TS) requirements for the Residual Heat Removal (RHR) Drywell Spray function. This function had previously resided in the TSs for Peach Bottom Atomic Power Station (PBAPS), Units 2 and 3, but was relocated to a licensee-controlled document, the Technical Requirements Manual, as part of the conversion to the improved TSs on August 30, 1995. Based on the requirements in 10 CFR 50.36, the licensee has determined that the RHR Drywell Spray function needs to be re-established in the PBAPS, Units 2 and 3, TSs.

Basis for proposed no significant hazards consideration determination: As required by 10 CFR 50.91(a), the licensee has provided its analysis of the issue of no significant hazards consideration, which is presented below with the NRC staff edits in square brackets:

1. Will operation of the facility in accordance with the proposed amendment involve a significant increase in the probability or consequences of an accident previously evaluated?

Response: No.

The proposed changes to re-establish TS requirements for the RHR Drywell Spray function is necessary based on the recognition that the current design basis description in the Updated Final Safety Analysis Report (UFSAR) does not appropriately reflect the effects of a Small Steam Line Break (SSLB) accident on peak drywell temperatures. The current design basis description describes the bounding condition based on the effects of the Design Basis Accident (DBA) Loss of Coolant Accident (LOCA), which is considered the Recirculation Suction Line Break (RSLB) accident. Since peak drywell temperatures may be higher for the SSLB accident, and the RHR Drywell Spray function is credited to limit peak drywell temperature following a SSLB, the requirements of 10 CFR 50.36(c)(2)(ii) apply. Specifically, Criterion 3 [of 10 CFR 50.36(c)(2)(ii) requires that a TS limiting condition for operation be established for items that meet the following]:

“A structure, system, or component that is part of the primary success path and which functions or actuates to mitigate a design basis accident or transient that either assumes the failure of or presents a challenge to the integrity of a fission product barrier.”

The proposed changes to re-establish the RHR Drywell Spray requirements in TS do not introduce new equipment or new equipment operating modes, nor do the proposed changes alter existing system relationships. The proposed changes do not affect plant operation, design function, or any analysis that verifies the capability of a Structure, System, or Component (SSC) to perform a design function. There are no changes or modifications to the RHR system. The RHR system will continue to function as designed in all modes of operation, including the Drywell Spray function. There are no significant changes to procedures or training related to the operation of the RHR Drywell Spray function. Primary containment integrity is not adversely impacted and radiological consequences from the accidents analyzed in the UFSAR are not increased. Containment parameters are not increased beyond those previously evaluated and the potential for failure of the containment is not increased.

There is no adverse impact on systems designed to mitigate the consequences of accidents. The proposed changes do not increase system or component pressures, temperatures, and flowrates for systems designed to prevent accidents or mitigate the consequences of an accident. Since these conditions do not change, the likelihood of failure of [a] SSC [to perform its intended function] is not increased.

The proposed changes do not increase the likelihood of the malfunction of any SSC or impact any analyzed accident. Consequently, the probability or consequences of an accident previously evaluated are not affected.

Based on the above, Exelon concludes that the proposed changes do not involve a significant increase in the probability or consequences of an accident previously evaluated.

2. Will operation of the facility in accordance with the proposed amendment create the possibility of a new or different kind of accident from any accident previously evaluated?

Response: No.

The proposed changes to re-establish the RHR Drywell Spray requirements in TS do not alter the design function or operation of any SSC. The RHR system will continue to function as designed in all modes of operation, including the Drywell Spray function. There is no new system component being installed, no new construction, and no performance of a new test or maintenance function. The proposed TS changes do not create the possibility of a new credible failure mechanism or malfunction. The proposed changes do not modify the design function or operation of any SSC. The proposed changes do not introduce new accident initiators. Primary containment integrity is not adversely impacted and radiological consequences from the accidents analyzed in the UFSAR are not increased. Containment parameters are not increased beyond those previously evaluated and the potential for failure of the containment is not increased. The proposed changes do not increase system or component pressures, temperatures, and flowrates for systems designed to prevent accidents or mitigate the consequences of an accident. Since these conditions do not change, the likelihood of failure of SSC is not increased. Consequently, the proposed changes cannot create the possibility of a new or different kind of accident from any accident previously evaluated.

Based on the above discussion, Exelon concludes that the proposed changes do not create the possibility of a new or different kind of accident from any accident previously evaluated.

3. Will operation of the facility in accordance with the proposed amendment involve a significant reduction in a margin of safety?

Response: No.

The proposed change to re-establish TS requirements for the RHR Drywell Spray function is necessary based on the recognition that the current design basis description in the UFSAR does not appropriately reflect the effects of a SSLB accident on peak drywell temperatures. The current design basis description describes the bounding condition based on the effects of the DBA LOCA, which is considered the RSLB accident. Since peak drywell temperatures may be higher for the SSLB, and the RHR Drywell Spray function is credited to limit peak drywell temperature following a SSLB accident, the requirements of 10 CFR 50.36(c)(2)(ii) apply. Specifically, Criterion 3 [of 10 CFR 50.36(c)(2)(ii) requires that a TS limiting condition for operation be established for items that meet the following]:

“A structure, system, or component that is part of the primary success path and which functions or actuates to mitigate a design basis accident or transient that either assumes the failure of or presents a challenge to the integrity of a fission product barrier.”

The proposed changes do not increase system or component pressures, temperatures, and flowrates for systems designed to prevent accidents or mitigate the consequences of an accident. Containment parameters are not increased beyond those previously evaluated and the potential for failure of the containment is not increased.

The proposed changes to re-establish the RHR Drywell Spray function in TS are needed in order to reflect the current design basis description related to the SSLB accident. The proposed changes do not exceed or alter a design basis or a safety limit for a parameter to be described or established in the UFSAR or the Renewed Facility Operating License (FOL). Consequently, the proposed changes do not result in a reduction in the margin of safety.

Based on the above, Exelon concludes that the proposed changes do not involve a significant reduction in a margin of safety.

The NRC staff has reviewed the licensee's analysis and, based on this review, and with the changes noted above in square brackets, it appears that the three standards of 10 CFR 50.92(c) are satisfied. Therefore, the NRC staff proposes to determine that the amendment request involves no significant hazards consideration.

Attorney for Licensee: Mr. J. Bradley Fewell, Assistant General Counsel, Exelon Generation Company, LLC, 200 Exelon Way, Kennett Square, PA 19348.

NRC Branch Chief: Meena K. Khanna.

Florida Power and Light Company, et al., Docket Nos. 50-335 and 50-389, St. Lucie Plant, Units 1 and 2, St. Lucie County, Florida.

Date of amendment request: August 10, 2012.

Description of amendment request: The amendments would revise the technical specifications (TSs), specifically, the requirements of the TSs related to station direct current battery surveillance requirements for terminal connection resistances.

Basis for proposed no significant hazards consideration determination: As required by 10 CFR 50.91(a), the licensee has provided its analysis of the issue of no significant hazards consideration, which is presented below:

1. Does the proposed change involve a significant increase in the probability or consequences of an accident previously evaluated?

No. The proposed change will not result in any significant increase in the probability or consequences of an accident previously evaluated, as the proposed TS change is consistent with the methodologies adopted in the LARs [license amendment requests] recently accepted by the NRC on Wolf Creek, Catawba, and McGuire. The proposed maximum limits of the inter-cell and inter-tier resistance values are based on the resistance values obtained from the battery monitoring and maintenance programs (implemented via preventive maintenance (PM) procedures) at St. Lucie, which are based on the IEEE [Institute of Electrical and Electronics Engineers] 450 methodology to maintain the battery cells and connections. The battery monitoring and maintenance programs adopted at St. Lucie for the safety related battery inter-cell connection resistances ensure that the values remain within the required ranges of the established baseline values and will remain bounded by the proposed maximum inter-cell and inter-tier resistance values. This change does not alter any design input used in any accident analysis previously performed. The proposed change constitutes an additional limitation or restriction on the acceptable range of values of the battery inter-cell resistance required to ensure that the batteries are able to perform as designed.

Therefore, the proposed change will not increase the probability or consequences of any accident previously evaluated that involves any of the safety related batteries or associated equipment powered by these batteries.

2. Does the proposed change create the possibility of a new or different kind of accident from any accident previously evaluated?

No. The proposed change does not involve a physical alteration of the plant. No new or different type of equipment will be installed. There is no change in the methods governing normal plant operation. The proposed change will not introduce new failure modes/effects which could lead to an accident whose consequences exceed the consequences of accidents previously analyzed.

Therefore, the proposed change does not create the possibility of a new or different kind of accident from any accident previously evaluated.

3. Does the proposed change involve a significant reduction in a margin of safety?

No. The proposed change will not involve a significant reduction in a margin of safety. The proposed maximum battery inter-cell and inter-tier resistance values are based on the actual measurements obtained over the years during the 18 month preventive maintenance activities. The measured resistance values are all less than 20% above the baseline installed values, which will ensure that design limits for battery connection resistance are not exceeded. This approach is in accordance with the IEEE 450-1995, Section D.2. This methodology also provides a lower average inter-cell connection resistance limit than both the existing TS limit of 150 μΩ per cell and the vendor's design limits for each St. Lucie Unit. The proposed change to the TS constitutes an additional limitation or restriction on the acceptable range of values of the battery inter-cell resistance required to ensure that the batteries are able to perform as designed.

Thus, this proposed TS change will not involve a reduction in a margin of safety.

The NRC staff has reviewed the licensee's analysis and, based on this review, it appears that the three standards of 10 CFR 50.92(c) are satisfied. Therefore, the NRC staff proposes to determine that the amendment request involves no significant hazards consideration.

Attorney for licensee: Mr. Mitchell S. Ross, Attorney, Florida Power & Light, P.O. Box 14000, Juno Beach, Florida 33408-0420.

NRC Acting Branch Chief: Jessie F. Quichocho.

NextEra Energy Duane Arnold, LLC, Docket No. 50-331, Duane Arnold Energy Center, Linn County, Iowa

Date of amendment request: March 22, 2012.

Description of amendment request: The proposed amendment would revise the Duane Arnold Energy Center (DAEC) Technical Specifications (TS) by modifying existing Surveillance Requirements (SRs) regarding the battery terminal and charger voltages and amperage provided in SR 3.8.4.1 and SR 3.8.4.6.

Basis for proposed no significant hazards consideration determination: As required by 10 CFR 50.91(a), the licensee has provided its analysis of the issue of no significant hazards consideration, which is presented below:

1. Does the proposed amendment involve a significant increase in the probability or consequences of any accident previously evaluated?

Response: No.

The proposed changes modify Surveillance Requirements (SRs) regarding the battery terminal and charger voltages and amperage provided in SR 3.8.4.1 and SR 3.8.4.6. Accidents are initiated by the malfunction of plant equipment, or the catastrophic failure of plant structures, systems, or components. The performance of battery testing is not a precursor to any accident previously evaluated and does not change the manner in which the batteries are operated. The proposed testing requirements will not contribute to the failure of the batteries nor any plant structure, system, or component. NextEra Energy Duane Arnold has determined that the proposed change in testing provides an equivalent level of assurance that the batteries are capable of performing their intended safety functions. Thus, the proposed changes do not affect the probability of an accident previously evaluated.

Verifying battery terminal voltage while on float charge for the batteries helps to ensure the effectiveness of the charging system and the ability of the batteries to perform their intended function. The proposed changes involve the manner in which the subject batteries are tested or maintained, and have no effect on the types or amounts of radiation released or the predicted offsite doses in the event of an accident. The proposed testing requirements are sufficient to provide confidence that these batteries are capable of performing their intended safety functions.

Therefore, the proposed change does not involve a significant increase in the probability or consequences of an accident previously evaluated.

2. Does the proposed change create the possibility of a new or different kind of accident from any previously evaluated?

Response: No.

This TS SR change for the batteries is based upon the addition of two additional cells to each of the existing DAEC 125 [volts direct current] VDC Safety Related Station Batteries (1D1 & 1D2). The improved batteries with 60 cells are at least equivalent to the existing 58-cell batteries. The batteries, with the added cells, provide an acceptable design margin to the existing batteries. Battery circuit coordination is not adversely affected by the addition of this improved battery with 60 cells. The proposed changes to these TS SRs do not introduce any new accident initiators or precursors, or any new design assumptions for those components used to mitigate the consequences of an accident.

Therefore, the proposed change does not create the possibility of a new or different kind of accident from any accident previously evaluated.

3. Does the proposed amendment involve a significant reduction in the margin of safety?

Response: No.

The improvement of the existing batteries, with the addition of 2 cells and the subsequent TS SR changes that verify higher minimum terminal voltage on float charge in SR 3.8.4.1 and higher 125 VDC battery charger voltage with lower amperage in SR 3.4.3.6, the improved batteries, and the requirements associated with verifying their design functionality, will not involve a significant reduction in the margin of safety. The improved batteries are at least equivalent to the existing batteries. The additional cells in the proposed improved batteries provide an acceptable design margin. The increase in the number of cells from 58 to 60 will result in a small increase in battery terminal voltage on float charge. These proposed TS SRs simply document the verification of the new minimum voltage and amperage values. Accordingly, there is no significant reduction in the margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. Mitchell S. Ross, Attorney, Florida Power & Light, P.O. Box 14000, Juno Beach, Florida 33408-0420.

NRC Acting Branch Chief: Istvan Frankl.

NextEra Energy Point Beach, LLC, Docket Nos. 50-266 and 50-301, Point Beach Nuclear Plant, Units 1 and 2, Town of Two Creeks, Manitowac County, Wisconsin

Date of application for amendments: August 16, 2012.

Description of amendment request: The proposed amendment would revise Technical Specification 5.3, “Facility Staff Qualifications,” to clarify the required qualifications of the Operations Manager.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment is for an administrative change only. No actual facility equipment or accident analyses will be affected by the proposed changes.

Therefore, the proposed change does not involve a significant increase in the probability or consequences of an accident previously evaluated.

2. Does the proposed amendment create the possibility of a new or different kind of accident from any accident previously evaluated?

Response: No.

This request is for administrative changes only. No actual facility equipment or accident analyses will be affected by the proposed changes and no failure modes not bounded by previously evaluated accidents will be created.

Therefore, the proposed amendment does not create the possibility of a new or different kind of accident from any accident previously evaluated.

3. Does the proposed amendment involve a significant reduction in a margin of safety?

Response: No.

Margin of safety is associated with confidence in the ability of the fission product barriers (i.e., fuel cladding, reactor coolant system pressure boundary, and containment structure[s]) to limit the level of radiation dose to the public. This request is for administrative changes only. No actual plant equipment or accident analyses will be affected by the proposed changes. Additionally, the proposed changes will not relax any criteria used to establish safety limits, will not relax any safety system settings, and will not relax the bases for any limiting conditions of operation.

Therefore, the proposed amendment would not involve a significant reduction in a margin of safety.

The NRC staff has reviewed the licensee's analysis and, based on this review, it appears that the three standards of 10 CFR 50.92(c) are satisfied. Therefore, the NRC staff proposes to determine that the amendment request involves no significant hazards consideration.

Attorney for Licensee: William Blair, Senior Attorney, NextEra Energy Point Beach, LLC, P.O. Box 14000, Juno Beach, FL 33408-0420.

NRC Acting Branch Chief: Istvan Frankl.

Southern Nuclear Operating Company, Inc., Docket Nos. 50, 424 and 50-425, Vogtle Electric Generating Plant, Units 1 and 2, Burke County, Georgia

Date of amendment request: September 26, 2012.

Description of amendment request: The proposed Technical Specification (TS) change would revise TS 3.7.14, “Engineered Safety Features (ESF) Room Cooler and Safety-Related Chiller System” such that, with one ESF room cooler and safety-related chiller train inoperable, the allowed Completion Time for Condition A is extended from 72 hours to 7 days. In addition, this proposed TS change would allow 14 days for overhaul maintenance of the safety-related chiller system to be performed. Also proposed is an editorial change to delete a note which is no longer needed.

Basis for proposed no significant hazards consideration determination: As required by 10 CFR 10 50.91(a), the licensee has provided its analysis of the issue of no significant hazards consideration, which is presented below:

1. Does the proposed license amendment involve a significant increase in the probability or consequences of an accident previously evaluated?

The proposed changes do not alter any plant equipment or operating practices in such a manner that the probability of an accident is increased. The proposed changes will not alter assumptions relative to the mitigation of an accident or transient event.

Therefore, the proposed changes do not involve a significant increase in the probability or consequences of an accident previously evaluated.

2. Does the proposed amendment create the possibility of a new or different kind of accident from any accident previously evaluated?

The proposed changes do not involve any physical alteration of the plant or significant change in the methods governing normal plant operation.

Therefore, the proposed changes do not create the possibility of a new or different kind of accident from any accident previously evaluated.

3. Does the proposed amendment involve a significant reduction in a margin of safety?

Based on the operability of the remaining ESF Room Cooler and Safety-Related Chiller Train, the accident analysis assumptions continue to be met with enactment of the proposed changes. The system design and operation are not affected by the proposed changes. The safety analysis acceptance criteria are not altered by the proposed changes. Finally, the proposed compensatory measures for the increase in Completion Time for chiller overhaul maintenance work activities will provide further assurance that no significant reduction in a safety margin will occur.

The proposed changes provide reasonable assurance that the ESF room Cooler and Safety-Related Chiller system will continue to perform its intended safety function.

Therefore, the proposed changes do not involve a significant reduction in a margin of safety.

Based on the above, SNC concludes that the proposed changes present no significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the amendment request involves no significant hazards consideration.

Attorney for licensee: Mr. Arthur H. Domby, Troutman Sanders, NationsBank Plaza, Suite 5200, 600 Peachtree Street NE., Atlanta, Georgia 30308-2216.

NRC Branch Chief: Robert Pascarelli.

Wolf Creek Nuclear Operating Corporation, Docket No. 50-482, Wolf Creek Generating Station, Coffey County, Kansas

Date of amendment request: September 19, 2012.

Description of amendment request: The amendment would increase the voltage limit for the emergency diesel generator (DG) full load rejection test specified by Technical Specification (TS) 3.8.1, “AC Sources—Operating,” Surveillance Requirement (SR) 3.8.1.10.

Basis for proposed no significant hazards consideration determination: As required by 10 CFR 50.91(a), the licensee has provided its analysis of the issue of no significant hazards consideration, which is presented below:

1. Does the proposed amendment involve a significant increase in the probability or consequences of an accident previously evaluated?

Response: No.

There are no design changes associated with the proposed change. Design, material, and construction standards that were applicable prior to this amendment request will continue to be applicable.

The proposed change will not affect accident initiators or precursors nor adversely alter the design assumptions, conditions, and configuration of the facility or the manner in which the plant is operated and maintained with respect to such initiators or precursors. The DGs' safety function is solely mitigative and is not needed unless there is a loss of offsite power.

The proposed change increases the TS SR limit on maximum voltage following a load rejection but does not physically alter safety related systems nor affect the way in which safety related systems perform their functions. The proposed change does not involve a physical change to the DGs, nor does it change the safety function of the DGs. As such, the proposed change will not alter or prevent the capability of structures, systems, and components (SSCs) to perform their intended functions for mitigating the consequences of an accident and meeting applicable acceptance criteria. The technical analysis performed to support this proposed amendment has demonstrated that the DGs can withstand voltages above the new proposed maximum voltage limit without a loss of protection. The proposed higher limit will continue to provide assurance that the DGs are protected, and the safety function of the DGs will be unaffected by the proposed change.

Therefore, the proposed change does not involve a significant increase the probability or consequences of an accident previously evaluated.

2. Does the proposed amendment create the possibility of a new or different kind of accident from any accident previously evaluated?

Response: No.

With respect to any new or different kind of accident, there are no proposed design changes nor or there any changes in the method by which any safety related plant SSC performs its specified safety function. The proposed change will not affect the normal method of plant operation or change any operating parameters. No new accident scenarios, transient precursors, failure mechanisms, or limiting single failures will be introduced as a result of this amendment.

The proposed amendment will not alter the design or performance of the 7300 Process Protection System, Nuclear Instrumentation System, Solid State Protection System, Balance of Plant Engineered Safety Features Actuation System, Main Steam and Feedwater Isolation System, or Load Shedder and Emergency Load Sequencers used in the plant protection systems.

The proposed increase in the TS SR limit does not affect the interaction of the DGs with any system whose failure or malfunction can initiate an accident. The change does not involve a physical modification of the plant. There are no alterations to the parameters within which the plant is normally operated. No changes are being proposed to the procedures relied upon to mitigate a design basis event. The change does not have a detrimental impact on the manner in which plant equipment operates or responds to an actuation signal.

Therefore, the proposed change will not create the possibility of a new or different kind of accident from any accident previously evaluated.

3. Does the proposed amendment involve a significant reduction in a margin of safety?

Response: No.

There will be no effect on those plant systems necessary to assure the accomplishment of protection functions associated with reactor operation or the Reactor Coolant System. The will be no impact on the overpower limit, departure from nucleate boiling ratio (DNBR) limits, heat flux hot channel factor, nuclear enthalpy rise hot channel factor, loss of coolant accident peak cladding temperature, peak local power density, or any other limit and associated margin of safety. Required shutdown margins in the CORE OPERATING LIMITS REPORT will not be changed.

The proposed change does not eliminate any surveillance or alter the Frequency of surveillances required by the TSs. The increase in the TS SR voltage limit will not affect the ability of the DGs to perform their safety function.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jay Silberg, Esq., Pillsbury Winthrop Shaw Pittman LLP, 2300 N Street NW., Washington, DC 20037.

NRC Branch Chief: Michael T. Markley.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Exelon Generation Company, LLC, Docket Nos. STN 50-456 and STN 50-457, Braidwood Station, Units 1 and 2, Will County, Illinois

Docket Nos. STN 50-454 and STN 50-455, Byron Station, Units 1 and 2, Ogle County, Illinois.

Date of application for amendment: March 20, 2012, as supplemented by letters dated August 14 and 30, 2012.

Brief description of amendment: The amendments modify Braidwood and Byron Technical Specifications to permanently exclude portions of the steam generator (SG) tube below the top of the SG tubesheet from periodic SG tube inspections and plugging or repair for Braidwood, Unit 2, and for Byron, Unit 2. In addition, the amendments revise TS 5.6.9 to remove reference to the previous temporary alternate repair criteria and provide reporting requirements specific to the permanent alternate repair criteria.

Date of issuance: October 4, 2012.

Effective date: As of the date of issuance and shall be implemented within 30 days for Braidwood, Unit 2, and implemented for Byron, Unit 2, prior to entering MODE 4 following. SG inspections required by TS 5.5.9, beginning with the spring 2012, refueling outage.

Amendment Nos.: Unit 1-177 and Unit 2-177.

Facility Operating License Nos. NPF-72, NPF-77, NPF-37, and NPF-66: The amendments revised the Technical Specifications and License.

Date of initial notice in Federal Register: June 12, 2012 (77 FR 35072).

The August 14 and 30, 2012, supplements contained clarifying information and did not change the NRC staff's initial proposed finding of no significant hazards consideration.

The Commission's related evaluation of the amendments is contained in a safety evaluation dated October 4, 2012.

No significant hazards consideration comments received: No.

PPL Susquehanna, LLC, Docket Nos. 50-387 and 50-388, Susquehanna Steam Electric Station, Units 1 and 2, Luzerne County, Pennsylvania

Date of amendment requests: April 30, 2012, as supplemented by letter dated August 15, 2012.

Brief description of amendment: The amendment revised the Cyber Security Plan (CSP) Implementation Schedule for Milestone 3 and 6 at Susquehanna Steam Electric Station, Units 1 and 2. Specifically, for Milestone 3, PPL Susquehanna, LLC (PPL) will install a deterministic data diode appliance between Layers 3 and 2 instead of between Layers 3 and 4 with no change to the approved implementation date. For Milestone 6, PPL will implement the technical controls for critical digital assets (CDAs) by the approved implementation date, and will implement the operational and management controls for the CDAs in conjunction with the full implementation of the CSP.

Date of issuance: October 17, 2012.

Effective date: This license amendment is effective as of the date of its issuance and shall be implemented by December 31, 2012.

Amendment Nos.: 258 and 239.

Facility Operating License Nos. NPF-14 and NPF-22. Amendment revised the license and the technical specifications.

Date of initial notice in Federal Register: August 14, 2012 (77 FR 48560).

The letter dated August 15, 2012, provided clarifying information that did not change the initial proposed no significant hazards consideration determination or expand the application beyond the scope of the original Federal Register notice.

The Commission's related evaluation of the amendment is contained in a Safety Evaluation dated October 17, 2012.

No significant hazards consideration comments received: No.

South Carolina Electric and Gas Company, South Carolina Public Service Authority, Docket No. 50-395, Virgil C. Summer Nuclear Station, Unit 1, Fairfield County, South Carolina

Date of application for amendment: June 29, 2012, as supplemented September 12, September 20, and October 10, 2012.

Brief description of amendment: The amendment revises Technical Specification 3.5.4, “Refueling Water Storage Tank (RWST),” such that the non-seismically qualified piping of the Spent Fuel Pool (SFP) purification system may be connected to the RWST's seismic piping by manual operation of a RWST seismically qualified boundary valve under administrative controls for performance of RWST surveillance requirements and filtration. This change will only be applicable through the next two fuel cycles.

Date of issuance: October 12, 2012.

Effective date: This license amendment is effective as of the date of its issuance.

Amendment No.: 192.

Renewed Facility Operating License No. NPF-12: Amendment revises the License.

Date of initial notice in Federal Register: July 24, 2012 (77 FR 43379).

The supplemental submittals dated September 12, September 20, and October 10, 2012, provided additional information that clarified the application, did not expand the scope of the application as originally noticed, and did not change the staff's original proposed no significant hazards consideration determination as published in the Federal Register on July 24, 2012 (77 FR 43379).

The Commission's related evaluation of the amendment is contained in a Safety Evaluation dated October 12, 2012.

No significant hazards consideration comments received: No.

Southern California Edison Company, et al., Docket Nos. 50-361 and 50-362, San Onofre Nuclear Generating Station, Units 2 and 3, San Diego County, California

Date of application for amendments: September 2, 2011.

Brief description of amendments: The amendments would revise a number of Technical Specification (TS) requirements to impose similar restrictions on the movement of non-irradiated fuel assemblies to those currently in place for movement of irradiated fuel assemblies. The additional restrictions will limit the movement of all fuel assemblies over irradiated fuel assemblies in containment or in the fuel storage pool.

Date of issuance: October 16, 2012.

Effective date: As of the date of issuance and shall be implemented within 60 days from the date of issuance.

Amendment No.: Unit 2-226; Unit 3-219.

Facility Operating License Nos. NPF-10 and NPF-15: The amendment revised the Facility Operating Licenses and Technical Specifications.

Date of initial notice in Federal Register: December 13, 2011 (76 FR 77572).

The Commission's related evaluation of the amendment is contained in a Safety Evaluation dated October 16, 2012.

No significant hazards consideration comments received: No.

Dated at Rockville, Maryland, this 19th day of October 2012.
For the Nuclear Regulatory Commission
Louise Lund,
Deputy Director, Division of Operating Reactor Licensing, Office of Nuclear Reactor Regulation.

[FR Doc. 2012-26355 Filed 10-29-12; 8:45 am]

BILLING CODE 7590-01-P